DEPARTMENT OF DEFENSE

Department of the Air Force

Acceptance of Group Application Under Public Law 95-202 and Department of Defense Directive (DODD) 1000.20 “U.S. Civilian Crewmembers of the Flotilla Alaska Barge and Transport Company, Who Worked on the Inland and Coastal Waters of Vietnam as a Result of Contract MST-OT-35 (X) With the U.S. Navy for Direct Support of Military Operations in Vietnam From April 1966 Through April 1975.”

Under the provisions of section 401, Public Law 95-202 and DoD Directive 1000.20, the Department of Defense Civilian/Military Service Review Board has accepted an application on behalf of a group known as: “U.S. Civilian Crewmembers of the Flotilla Alaska Barge and Transport Company, Who Worked on the Inland and Coastal Waters of Vietnam as a Result of Contract MST-OT-35 (X) With the U.S. Navy for Direct Support of Military Operations in Vietnam from April 1966 through April 1975.” Persons with information or documentation pertinent to the determination of whether the service of this group should be considered active military service to the Armed Forces of the United States are encouraged to submit such information or documentation within 60 days to the DoD Civilian/Military Service Review Board, 1535 Command Drive, EE-Wing, 3rd Floor, Andrews AFB, MD 20762-7002. Copies of documents or other materials submitted cannot be returned.

Pamela D. Fitzgerald,
Air Force Federal Register Liaison Officer.

[FR Doc. 02-29729 Filed 11-21-02; 8:45 am]

BILLING CODE 5001-05-P